DEPARTMENT OF VETERANS AFFAIRS

[OMB Control No. 2900-0021]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to justify the extension of forbearance to the veteran-borrower as opposed to foreclosure.

DATES: Written comments and recommendations on the proposed collection of information should be received on or before June 1, 2007.

ADDRESSES: Submit written comments on the collection of information through http://www.Regulations.gov or to Nancy J. Kessinger, Veterans Benefits Administration (20M35), Department of Veterans Affairs, 810 Vermont Avenue, NW., Washington, DC 20420 or e-mail to nancy.kessinger@va.gov. Please refer to “OMB Control No. 2900-0021” in any correspondence. During the comment period, comments may be viewed online through the Federal Docket Management System (FDMS) at www.Regulations.gov.

FOR FURTHER INFORMATION CONTACT: Nancy J. Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Notice of Default, VA Form 26-6850.

b. Notice of Default and Intention to Foreclose, VA Form 26-6850a.

c. Notice of Intention to Foreclose, VA Form 26-6851.

OMB Control Number: 2900-0021.

Type of Review: Extension of a currently approved collection.

Abstract: Holders of guaranteed loans are required to notify VA within 45 days of a loan default due to nonpayment of any installment for a period of 60 days from the date of the first uncured default. Holders are also required to notify VA of their intention to foreclose. After delivery of such notice to VA and 30 days has passed, the holder can begin court proceedings, give notice of sale under power of sale, or otherwise take steps to terminate the debtor's rights in the security.

VA Forms 26-6850 and 26-6851 require that servicing efforts are fully explained so that VA can determine whether supplemental servicing could develop further information to justify the extension of forbearance to the veterans-borrower as opposed to foreclosure. The information provided is used to coordinate the actions of VA and the holder to ensure that all legal requirements regarding foreclosure and claim payment are met. VA Form 26-6850a is filed by holders when defaults are determined insoluble by holders at the time the notice of default is filed with VA This form provides both notice of default and intent to foreclosure together on one form.

Affected Public: Business or other for profit, and Individuals or households.

Estimated Annual Burden: 66,166.

a. VA Form 26-6850—20,166 hours.

b. VA Form 26-6850a—26,000 hours.

c. VA Form 26-6851—20,000 hours.

Estimated Average Burden Per Respondent:

a. VA Form 26-6850—10 minutes.

b. VA Form 26-6850a—20 minutes.

c. VA Form 26-6851—15 minutes.

Frequency of Response: On occasion.

Estimated Number of Respondents: 279,000 hours.

a. VA Form 26-6850—121,000 hours.

b. VA Form 26-6850a—78,000 hours.

c. VA Form 26-6851—80,000 hours.

Dated: March 23, 2007.
By direction of the Acting Secretary.
Denise McLamb,
Program Analyst, Records Management Service.

[FR Doc. E7-6031 Filed 3-30-07; 8:45 am]

BILLING CODE 8320-01-P